DEPARTMENT OF THE INTERIOR

Fish and Wildlife Service

[FWS-R4-ES-2015-N086; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by August 19, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: James Gruhala, Permit Coordinator).

FOR FURTHER INFORMATION CONTACT: James Gruhala, 10(a)(1)(A) Permit Coordinator, telephone 404-679-7097; facsimile 404-679-7081.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 13844A-2

Applicant: Anthony Miller, Morgan Worldwide, Lexington, Kentucky.

The applicant requests an amendment of his current permit to add the state of Georgia for permitted activities with the gray bat (Myotis grisescens). Permitted activities will continue to be take (enter hibernacula and maternity roost caves, mist-net, harp trap, band, radio-tag, light-tag, wing punch, and salvage) for the purpose of carrying out presence/absence surveys.

Permit Application Number: TE 12399A-3

Applicant: Ronald Forman, Audubon Nature Institute, New Orleans, Louisiana.

The applicant requests renewal of his current permit to take (rehabilitate, mark, transport, release, and euthanize) Kemp's ridley (Lepidochelys kempii), hawksbill (Eretmochelys imbricata), leatherback (Dermochelys coriacea), green (Chelonia mydas), loggerhead (Caretta caretta), and olive ridley (Lepidochelys olivacea) sea turtles and amendment to authorize the attachment of satellite tags to turtles prior to release, for purposes of veterinary treatment and monitoring of movements and survival of released turtles in the state of Louisiana and elsewhere as directed by the U.S Fish and Wildlife Service.

Permit Application Number: TE 66445B-0

Applicant: Angelina Fowler, Nashville, Tennessee.

The applicant requests a permit to take (capture, identify, release) Nashville crayfish (Orconectes shoupi) and thirteen species of fish for the purpose of conducting presence/absence surveys in Tennessee, Alabama, Kentucky, and Georgia.

Permit Application Number: TE 66480B-0

Applicant: Thomas Gilbert, Greenwood, Arkansas.

The applicant requests a permit to take (live-trap and release) American burying beetles (Nicrophorus americanus) for the purpose of conducting presence/absence surveys in Arkansas and Oklahoma.

Permit Application Number: TE 017853-3

Applicant: Lynne Byrd, Mote Marine Laboratory, Sarasota, Florida.

The applicant requests renewal of his current permit to take (euthanize) Kemp's ridley (Lepidochelys kempii), hawksbill (Eretmochelys imbricata), leatherback (Dermochelys coriacea), green (Chelonia mydas), loggerhead (Caretta caretta), sea turtles for the purpose of veterinary treatment in the state of Florida and elsewhere as directed by the U.S Fish and Wildlife Service.

Permit Application Number: TE 68616B-0

Applicant: Carla Atkinson, University of Alabama, Tuscaloosa, Alabama.

The applicant requests a permit to take (capture, identify, release) 33 species of mussels for the purpose of conducting presence absence surveys in Alabama, Georgia, and Tennessee.

Permit Application Number: TE 121059-2

Applicant: Peggy Measel, Round Mountain Biological & Environmental Studies Inc., Nicholasville, Kentucky.

The applicant requests an amendment of her current permit to add the states of Indiana, Illinois, Virginia, and West Virginia for already permitted activities with Indiana (Myotis sodalis) and gray (Myotis grisescen) bats. Permitted activities will continue to be take (enter hibernacula and maternity roost caves, salvage bead bats, collect hair samples, mist-net, harp trap, band, radio-tag, light-tag, wing punch, and salvage) for the purpose of carrying out presence/absence surveys.

Permit Application Number: TE 64232B-0

Applicant: Joshua R. Young, Lexington, Kentucky.

The applicant requests a permit to take (capture, identify, tag, and release) Virginia big-eared (Corynorhinus (=plecotus) townsendii virginianus), Indiana (Myotis sodalis), gray (Myotis grisescens), and northern long-eared bats (Myotis septentrionalis) in Alabama, Arkansas, Georgia, Illinois, Indiana, Kentucky, Maryland, Mississippi, Missouri, North Carolina, Ohio, Pennsylvania, South Carolina, Tennessee, Virginia, and West Virginia, and take (capture, identify, release, and collect relict shells) 26 species of freshwater mussels in Kentucky for the purpose of conducting presence/absence surveys.

Dated: June 23, 2015.
Leopoldo Miranda,
Assistant Regional Director—Ecological Services, Southeast Region.

[FR Doc. 2015-17070 Filed 7-17-15; 8:45 am]

BILLING CODE 4310-55-P